DEPARTMENT OF HEALTH AND HUMAN SERVICES

Administration for Children and Families

Submission for OMB Review; Behavioral Interventions To Advance Self-Sufficiency Next Generation (BIAS-NG) (OMB# 0970-0502)

AGENCY: Office of Planning, Research, and Evaluation, Administration for Children and Families, HHS.

ACTION: Request for public comment.

SUMMARY: The Office of Planning, Research, and Evaluation (OPRE) in the Administration for Children and Families (ACF), U.S. Department of Health and Human Services (HHS), requests Office of Management and Budget (OMB) approval to extend approval of the ACF Behavioral Interventions to Advance Self-Sufficiency Next Generation (BIAS-NG) Project Overarching Generic (OMB #: 0970-0502; Expiration date: 8/31/2022). Under this overarching generic, ACF collects data as part of rapid cycle testing and evaluation, in order to inform the design of interventions informed by behavioral science and to better understand the mechanisms and effects of such interventions. Interventions have been and will continue to be developed in the program area domains of Temporary Assistance for Needy Families (TANF), child welfare, and Early Head Start/Head Start (EHS/HS). These interventions are intended to improve outcomes for participants in these programs. No changes are proposed.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION:

Description: OPRE is conducting the BIAS-NG project, which uses behavioral insights to design and test interventions intended to improve the efficiency, operations, and efficacy of human services programs. The BIAS-NG project is applying and testing behavioral insights to ACF programs including TANF, Child Welfare, and EHS/HS. This notice is a request for comments on ACF's proposal to extend approval of the overarching generic. Under the approved pilot generic clearance, OPRE has already completed work with five sites and has conducted five tests. The extended approval would allow OPRE to continue to work with at least three additional sites, conducting one or more tests of behavioral interventions. The design and testing of BIAS-NG interventions is rapid and, to the extent possible, iterative. Each specific intervention is designed in consultation with agency leaders and launched as quickly as possible. To maximize the likelihood that the intervention produces measurable, significant, and positive effects on outcomes of interest, rapid cycle evaluation techniques will be employed in which proximate outcomes will be measured to allow the research team to more quickly iterate and adjust the intervention design, informing subsequent tests. Due to the rapid and iterative nature of this work, OPRE sought and received generic clearance to conduct this research. Following standard OMB requirements for generic clearances, once instruments requiring burden are tailored to a specific site and the site's intervention, OPRE submits an individual generic information collection request under this umbrella clearance. Each request includes the individual instrument(s), a justification specific to the individual information collection, a description of the proposed intervention, and any supplementary documents. Each specific information collection includes up to two submissions—one submission for the formative stage research and another submission for any further data collection requiring burden during the testing phase. The type of information to be collected and the uses of the information is described in the supporting statements, found here: https://www.reginfo.gov/public/do/PRAViewICR?ref_nbr=201909-0970-003.

Respondents: (1) Program Administrators, (2) Program Staff, and (3) Program Clients.

Annual Burden Estimates (TANF, CW, EHS/HS): This request includes an extension to complete currently approved and ongoing phase 3 data collection in three sites (Matrix/Starfish and Hennepin County), and new data collection. Burden estimates for new requests are outlined below. Previously approved burden estimates can be found at the url above.

Instrument | Number of respondents (TANF, CW, EHS/HS) (total over request period) | Number of responses per respondent (total over request period) | Average burden hours per response (in hours) | Total burden (in hours) | Annual burden (in hours)
Phase 3: Diagnosis and Design
Administrator interviews/focus groups | 48 | 1 | 1 | 48 | 16
Staff interviews/focus groups | 400 | 1 | 1 | 400 | 133
Client interviews/focus groups | 400 | 1 | 1 | 400 | 133
Client survey | 400 | 1 | 0.25 | 100 | 33
Staff Survey | 400 | 1 | 0.25 | 100 | 33
Phase 4: Evaluation
Administrator interviews/focus groups | 96 | 1 | 1 | 96 | 32
Staff interviews/focus groups | 800 | 1 | 1 | 800 | 267
Client interviews/focus groups | 800 | 1 | 1 | 800 | 267
Client survey | 12,000 | 1 | 0.25 | 3,000 | 1,000
Staff Survey | 1,200 | 1 | 0.25 | 300 | 100

Estimated Total Annual Burden Hours: 2,014.

Authority: 42 U.S.C. 1310.

Mary B. Jones,
ACF/OPRE Certifying Officer.

[FR Doc. 2022-12538 Filed 6-9-22; 8:45 am]

BILLING CODE 4184-07-P